DEPARTMENT OF AGRICULTURE

Natural Resources Conservation Service

Notice of Proposed Implementation of Phosphorous Index (PI) in the Caribbean Area

AGENCY: Natural Resources Conservation Service (NRCS), U.S. Department of Agriculture.

ACTION: Notice of Availability of proposed implementation of PI as a working tool to assess and manage phosphorous movement for review and comment.

SUMMARY: It has been determined that the Natural Resources Conservation Service will adopt the implementation of an assessment tool that may be used by resource managers and land users to assess the risk of phosphorous (P) losses from a field. A work group made up by Scientists from the Agricultural Experiment Station of the University of Puerto Rico and USDA-NRCS formed a task to adapt and validate this technology to our tropical environment. The purpose of the PI is to aid anyone environmentally involved in the decision-making processes involved planning resource conservation plans to land application to animal wastes. The risk of P losses is a function of transport and sources characteristics.

DATES: Comments will be received on or before July 23, 2001.

FOR FURTHER INFORMATION CONTACT: Inquire in writing to Juan A. Martinez, State Director, Natural Resources Conservation Service (NRCS), P.O. Box 364868 San Juan, PR 00946-4868; Telephone number (787) 766-5206 Ext. 237; Fax number (787) 766-5987. Copies of the Agronomy Technical Note will be made available upon written request to the address shown above.

SUPPLEMENTARY INFORMATION: High phosphorous (P) concentrations found in many surface waters throughout Puerto Rico suggest that this may be the leading cause observed eutrophication. Because agricultural activities are one of many non-point sources apparently contributing to P loading, it is important to implement agricultural nutrient management plans. This must be done judiciously because of the unique social and economic conditions that prevail. One component of said plan is the assessment of P transport from soil to water by the use of the Phosphorous Index (PI). The PI is a site specific, qualitative vulnerability assessment tool used by the USDA-NRCS to determine when manure utilization may be based on a nitrogen or phosphorous-based budget.

No administrative action on implementing of the Agronomy Technical Note will be taken until 30 days after the date of this publication in the Federal Register.

Dated: May 17, 2001.
Juan A. Martinez,
State Director, Natural Resources Conservation Service, Caribbean Area.

[FR Doc. 01-15733 Filed 6-21-01; 8:45 am]

BILLING CODE 3410-16-U